DEPARTMENT OF LABOR

Office of the Secretary

Final Notice of Submission for OMB Review; Comment Request

ACTION: Final Notice of Submission for OMB Review; Comment Request.

SUMMARY: The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation, including, among other things, a description of the likely respondents, proposed frequency of response, and estimated total burden may be obtained from the RegInfo.gov Web site at http://www.reginfo.gov/public/do/PRAMain or by contacting Linda Watts Thomas on 202-693-4223 (this is not a toll-free number) and e-mail mail to: DOL_PRA_PUBLIC@dol.gov.

Interested parties are encouraged to send written comments to the Office of Information and Regulatory Affairs, Attn: OMB Desk Officer for the Department of Labor—Wage and Hour Division, Office of Management and Budget, Room 10235, Washington, DC 20503, Telephone: 202-395-7316/Fax 202-395-5806 (these are not toll-free numbers), E-mail: OIRA_submission@omb.eop.gov within 30 days from the date of this publication in the Federal Register. In order to ensure the appropriate consideration, comments should reference the OMB Control Number (see below).

The OMB is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Agency: Wage and Hour Division.

Type of Review: Extension without change of a previously approved collection.

Title of Collection: Employment Information Form.

OMB Control Number: 1235-0021.

Agency Form Number: Form WH-3 (English and Spanish).

Affected Public: Individuals or Households.

Total Estimated Number of Respondents: 35,000.

Total Estimated Annual Burden Hours: 11,667.

Total Estimated Annual Costs Burden: $0.

Description: This information collection covers complaints of labor standards violations filed by current and former employees, unions, competitor employers, and other interested parties with the Wage and Hour Division (WHD) of the DOL. Complainants themselves or WHD staff, using information provided by the complainants, complete Form WH-3 to record the allegation. WHD staff use the completed Form WH-3 to obtain information about employer compliance with the provisions of the various labor standards laws enforced by the WHD and to determine if the agency has jurisdiction to investigate the alleged violation(s). WHD makes Form WH-3 available in both English and Spanish. When the WHD schedules a complaint-based investigation, the agency makes the completed Form WH-3 part of the investigation case file. For additional information, see related notice published in the Federal Register on December 2, 2009 (74 FR 63159).

Dated: June 25, 2010.
Linda Watts Thomas,
Acting Departmental Clearance Officer.

[FR Doc. 2010-15987 Filed 6-30-10; 8:45 am]

BILLING CODE 4510-79-P